DEPARTMENT OF ENERGY

Federal Energy Regulatory Commission

[Docket No. EC04-10-000, et al.]

FPL Energy New Mexico Wind, LLC, et al.; Electric Rate and Corporate Filings

December 9, 2003.

The following filings have been made with the Commission. The filings are listed in ascending order within each docket classification.

1. FPL Energy New Mexico Wind, LLC and FPL Energy American Wind, LLC

[Docket EC04-10-000]

Take notice that on December 4, 2003, FPL Energy New Mexico Wind, LLC and FPL Energy American Wind, LLC (Applicants) submitted for filing a revision to Attachment A of Applicant's application that was approved by the Commission's November 26, 2003, Order in Docket No. EC04-10-000. Applicants' filing contains a request for expedited clarification of the Commission's November 26, 2003, Order, as well as a request for a shortened comment period.

Comment Date: December 11, 2003.

2. Covanta Energy Corporation

[Docket No. EC04-22-000]

Take notice that on December 4, 2003, Covanta Energy Corporation submitted a Notice of Withdrawal of its November 13, 2003, application in the above-referenced proceeding.

Comment Date: December 26, 2003.

3. Oswego Cogen Company, LLC; Sithe/Independence Equity LLC; and Sithe/Independence Power Partners, L.P.

[Docket No. EC04-33-000]

Take notice that on December 5, 2003, Oswego Cogen Company, LLC (Oswego), Sithe/Independence Equity LLC (Equity), and Sithe/Independence Power Partners, L.P. (Independence) (collectively, the Applicants) filed with the Federal Energy Regulatory Commission an application pursuant to section 203 of the Federal Power Act for authorization of a disposition from Oswego to Equity of a 40% limited partnership interest in Independence. Independence states it owns a 1,060 MW generating facility in Oswego, New York. Applicants state that the transaction will have no adverse effect on competition, rates or regulation.

Comment Date: December 26, 2003.

4. Onondaga Cogeneration Limited Partnership

[Docket Nos. EC04-34-000 and ER00-895-002]

Take notice that on December 5, 2003, Onondaga Cogeneration Limited Partnership (Onondaga), submitted an application pursuant to section 203 of the Federal Power Act and a notice of status change, seeking authorization for an internal restructuring. This internal restructuring, together with a subsequent transaction, would result in the transfer of indirect control of certain jurisdictional facilities associated with Onondaga's 91-MW dual fuel, combined-cycle merchant energy facility located in Geddes, New York. Onondaga requests expedited consideration of its application and certain waivers.

Onondaga states that the transaction will have no effect on competition, rates or regulation and is in the public interest.

Comment Date: December 26, 2003.

5. Sithe Energy Marketing, L.P., AG-Energy, L.P., Power City Partners, L.P., Seneca Power Partners, L.P., Sterling Power Partners, L.P., and Sithe/Independence Power Partners, L.P.

[Docket Nos. ER02-2202-003, ER98-2782-005, and ER03-42-004]

Take notice that on December 4, 2003, Sithe Energy Marketing, L.P., AG-Energy, L.P., Power City Partners, L.P., Seneca Power Partners, L.P., Sterling Power Partners, L.P., and Sithe/Independence Power Partners, L.P. (collectively, the Sithe Entities) tendered for filing a notice of change in status pursuant to section 205 of the Federal Power Act with respect to their authority to engage in wholesale sales of capacity, energy and ancillary services at market-based rates. The change in status involves the transfer of Oswego Cogen Company, LLC's 40% ownership interests in Sithe/Independence Power Partners, L.P. to Sithe/Independence Equity LLC, a transaction that will result in Sithe Energies, Inc. holding, directly and indirectly, 100% of the ownership interests in Sithe/Independence Power Partners, L.P.

Comment Date: December 26, 2003.

6. New York Independent System Operator Inc.

[Docket No. ER03-690-003]

Take notice that on November 26, 2003, New York Independent System Operator Inc. (NYISO) filed a Report on Market Competitiveness at the New York Independent System Operator Proxy Busses. NYISO states that this report was filed in compliance with directives in the Commission's August 22, 2003 Order Conditionally Accepting Proposed Tariff Revisions, 104 FERC ¶ 61,220.

Comment Date: December 26, 2003.

7. Columbus Southern Power Company

[Docket No. ER04-150-001]

Take notice that on November 20, 2003, Columbus Southern Power Company (CPS) submitted for filing a Certificate of Concurrence related to a November 3, 2003, Notice of Cancellation of its Service Agreement No. 3. CPS states that the certificate was not signed at the time of the cancellation and is now ready to be included with the cancellation.

Comment Date: December 19, 2003.

8. NEO California Power LLC

[Docket No. ER04-220-001]

Take notice that on December 5, 2003, NEO California Power LLC (NEO California) tendered for filing revised rate schedule sheets for the Must-Run Service Agreement (RMR Agreement) between NEO California and the California Independent System Operator Corporation (California ISO) an amendment to one of the revised rate schedule sheets that was filed in ER04-220-000 on November 21, 2003.

Comment Date: December 26, 2003.

9. APN Starfirst, LP

[Docket No. ER04-226-001]

Take notice that on December 5, 2003, APN Starfirst, LP (Starfirst) filed an amended Rate Schedule FERC No. 1 to comply with Federal Energy Regulatory Commission requirements in Order 614.

Comment Date: December 26, 2003.

10. Central Hudson Gas & Electric Corporation

[Docket No. ER04-258-000]

Take notice that on December 4, 2003, Central Hudson Gas & Electric Corporation (Central Hudson) tendered for filing a Notice of Cancellation of Rate Schedule FERC No. 63, effective June 18, 1981, in Docket No. ER81-604-000.

Central Hudson states that the contract was terminated in accordance with its terms as a result of the sale, on January 30, 2001, of the Central Hudson electric generation units designated in the contract.

Central Hudson requests waiver on the notice requirements set forth in 18 CFR 35.11 of the regulations to permit the Notice of Cancellation to be effective February 1, 2001.

Central Hudson states that a copy of its filing was served on Orange & Rockland Utilities, Inc., and the State of New York Public Service Commission.

Comment Date: December 26, 2003.

11. Central Hudson Gas & Electric Corporation

[Docket No. ER04-259-000]

Take notice that on December 4, 2003, Central Hudson Gas & Electric Corporation (Central Hudson) tendered for filing a Notice of Cancellation of Rate Schedule FERC No. 66, effective April 19, 1983, in Docket No. ER83-533-000. Central Hudson states that the contract was terminated in accordance with its terms as a result of the sale, on January 30, 2001, of the Central Hudson electric generation units designated in the contract. Central Hudson requests waiver on the notice requirements set forth in 18 CFR 35.11 of the regulations to permit the notice of cancellation to be effective February 1, 2001. Central Hudson states that a copy of its filing was served on New York State Electric and Gas Corporation, and the State of New York Public Service Commission.

Comment Date: December 26, 2003.

12. Tampa Electric Company

[Docket No. ER04-260-000]

Take notice that on December 4, 2003, Tampa Electric Company (Tampa Electric) tendered for filing a Notice of Cancellation of its transaction-specific service agreement with Cargill Fertilizer, Inc. (Cargill) under Tampa Electric's open access transmission tariff. Tampa Electric proposes that the cancellation be made effective on January 1, 2004. Tampa Electric states that copies of the filing have been served on Cargill and the Florida Public Service Commission.

Comment Date: December 26, 2003.

13. PJM Interconnection, L.L.C.

[Docket No. ER04-261-000]

Take notice that on December 4, 2003, PJM Interconnection, LLC (PJM), submitted for filing an interconnection service agreement (ISA) among PJM, American Project Development Corp/American Hydro Power Company/American Hydro Power Partners, L.P. and Pennsylvania Electric Company. PJM requests a waiver of the Commission's 60-day notice requirement to permit a November 4, 2003, effective date for the ISA. PJM states that copies of this filing were served upon the parties to the agreements and the state regulatory commissions within the PJM region.

Comment Date: December 26, 2003.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E3-00611 Filed 12-22-03; 8:45 am]

BILLING CODE 6717-01-P